DEPARTMENT OF THE INTERIOR

Bureau of Indian Affairs

Tribal Reassumption of Jurisdiction Over Child Custody Proceedings

AGENCY: Bureau of Indian Affairs, Interior.

ACTION: Notice of proposed renewal of information collection.

SUMMARY: In compliance with the Paperwork Reduction Act of 1995, this notice announces that the Bureau of Indian Affairs is seeking to extend clearance for an information collection request. The information collection, Tribal Reassumption of Jurisdiction over Child Custody Proceedings, is cleared under OMB Control Number 1076-0112. Interested parties are invited to comment on this collection.

DATES: Written comments must be submitted on or before April 28, 2009.

ADDRESSES: Written comments may be sent to Sue V. Settles, Chief, Division of Human Services, Office of Indian Services, Bureau of Indian Affairs, Department of the Interior, 1849 C Street, NW., MIB Mail Stop 4513, Washington, DC 20240, or fax to (202) 208-2648, or e-mail to Sue.Settles@bia.gov.

FOR FURTHER INFORMATION CONTACT: Sue V. Settles, Chief, Division of Human Services, at (202) 513-7621.

SUPPLEMENTARY INFORMATION:

I. Abstract

The Department has issued regulations prescribing procedures by which an Indian tribe may reassume jurisdiction over Indian child proceedings when a state asserts any jurisdiction. Tribes have the right to pursue this alternative because this action is authorized by the Indian Child Welfare Act, Public Law 95-608, 92 Stat. 3069, 25 U.S.C. 1918.

II. Request for Comments

The Bureau of Indian Affairs (BIA) invites comments on:

(a) Whether the collection of information is necessary for the proper performance of the functions of the BIA, including whether the information will have practical utility;

(b) The accuracy of the BIA's estimate of the burden (including hours and cost) of the proposed collection of information, including the validity of the methodology and assumptions used;

(c) Ways to enhance the quality, utility, and clarity of the information to be collected; and

(d) Ways to minimize the burden of the collection of information on those who are to respond, including through the use of appropriate automated, electronic, mechanical, or other collection techniques or other forms of information technology.

An agency may not conduct or sponsor, and a person is not required to respond to collection of information unless it displays a currently valid OMB control number.

It is our policy to make all comments available to the public for review at the location listed in the ADDRESSES section, room 4513 MIB, during the hours of 8 a.m. to 4:30 p.m., EST, Monday through Friday, except for legal holidays. Please note that all comments received will be available for public review 2 weeks after the comment period closes. Before including your address, phone number, e-mail address or other personally identifiable information, be advised that your entire comment—including your personally identifiable information—may be made public at any time. While you may request that we withhold your personally identifiable information, we cannot guarantee that we will be able to do so. We will honor your request according to the requirements of the law. All comments from organizations or representatives will be available for review. We may withhold comments from review for other reasons.

III. Data

OMB Control Number: 1076-0112.

Type of review: Extension.

Title: 25 CFR 13, Tribal Reassumption of Jurisdiction Over Child Custody Proceedings.

Brief Description of Collection: The collection of information will ensure that the provisions of Public Law 95-608 are met. Any Indian tribe which became subject to State jurisdiction pursuant to the provisions of the Act of August 15, 1953 (67 Stat. 588), as amended by title IV of the Act of April 11, 1968 (82 Stat. 73, 78), or pursuant to any other Federal law, may reassume jurisdiction over child custody proceedings. The collection of information provides data that will be used in considering the petition and feasibility of the plan of the tribe for reassumption of jurisdiction over Indian child custody proceedings such as the full name, address, and telephone number of petitioning tribe or tribes; a tribal resolution; estimated total number of members in the petitioning tribe or tribes with an explanation of how the number was estimated; current criteria for tribal membership; citation to provision in tribal constitution authorizing the tribal governing body to exercise jurisdiction over Indian child custody matter; description of tribal court; copy of any tribal ordinances or tribal court rules establishing procedures or rules for exercise of jurisdiction over child custody matters; and all other information required by 25 CFR 13.11.

Respondents: Federally recognized tribes who submit tribal reassumption petitions for review and approval by the Secretary of the Interior.

Number of Respondents: 2.

Estimated time per application: 8 hours.

Frequency of Response: Annually.

Total Annual Burden Hours: 16 hours.

Dated: February 19, 2009.
Sanjeev “Sonny” Bhagowalia,
Chief Information Officer—Indian Affairs.

[FR Doc. E9-4208 Filed 2-26-09; 8:45 am]

BILLING CODE 4310-4J-P